SMALL BUSINESS ADMINISTRATION

[Declaration of Disaster #3470]

State of Arkansas (And Contiguous Counties in Mississippi and Tennessee)

Crittenden County and the contiguous counties of Cross, Lee, Mississippi, Poinsett and St. Francis Counties in the State of Arkansas; DeSoto and Tunica Counties in the State of Mississippi; and Shelby and Tipton Counties in the State of Tennessee constitute a disaster area as a result of severe storms and tornadoes that occurred on November 9, 2002. Applications for loans for physical damage as a result of this disaster may be filed until the close of business on January 21, 2003, and for economic injury may be filed until the close of business on August 22, 2003, at the address listed below or other locally announced locations: U.S. Small Business Administration, Disaster Area 3 Office, 4400 Amon Carter Blvd., Suite 102, Ft. Worth, TX 76155.

The interest rates are:

| Percent
For Physical Damage:
Homeowners With Credit Available Elsewhere | 5.875
Homeowners Without Credit Available Elsewhere | 2.937
Businesses With Credit Available Elsewhere | 6.648
Businesses and Non-Profit Organizations Without Credit Available Elsewhere | 3.324
Others (Including Non-Profit Organizations) With Credit Available Elsewhere | 5.500
For Economic Injury:
Businesses and Small Agricultural Cooperatives Without Credit Available Elsewhere | 3.324

The numbers assigned to this disaster for physical damage are 347011 for Arkansas; 347111 for Mississippi; and 347211 for Tennessee. The numbers assigned to this disaster for economic injury are 9T1200 for Arkansas; 9T1300 for Mississippi; and 9T1400 for Tennessee.

(Catalog of Federal Domestic Assistance Program Nos. 59002 and 59008).
Dated: November 22, 2002.
Hector V. Barreto,
Administrator.

[FR Doc. 02-30447 Filed 11-29-02; 8:45 am]

BILLING CODE 8025-01-P